COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List a product and services to be furnished by nonprofit agencies employing persons who are blind or have other severe disabilities.

EFFECTIVE DATE: October 28, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail: CMTEFedReg@jwod.gov.

SUPPLEMENTARY INFORMATION: On July 27 and August 3, 2007, the Committee for Purchase From People Who Are Blind or Severely Disabled published notice (72 FR 41289; 43230) of proposed additions to the Procurement List.

After consideration of the material presented to it concerning capability of qualified nonprofit agencies to provide the products and services and impact of the additions on the current or most recent contractors, the Committee has determined that the product and services listed below are suitable for procurement by the Federal Government under 41 U.S.C. 46-48c and 41 CFR 51-2.4.

A comment was received from a clock manufacturer who objected to this proposed addition to the Procurement List, stating that this proposed addition, and previous actions by the Committee, has seriously impacted its company's clock sales. The commenter claimed to have previously been advised that “only 50% of the Government clocks would be set-aside” and the proposed nonprofit agency “would not be involved in the commercial market.” Finally, the commenter said that the proposed nonprofit's financial condition was such that further “protection” by the Committee was unnecessary.

The commenter did not provide revenue data as requested by original notice. In addition, the commenter's claims about ceilings being established for the nonprofit agency's market share could not be confirmed. The Committee's purpose in this proposed addition to the Procurement List is to create jobs for people who are blind, not to bolster the proposed nonprofit's financial condition. Consequently, the Committee determines that there is no significant impact from including this proposed addition on the Procurement List.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Clocks, SelfSet & SelfSet (LOGO)

NSN: 6645-00-NIB-0108—12-in diameter, Black.

NSN: 6645-00-NIB-0112—12-in diameter, Bronze.

NSN: 6645-00-NIB-0114—8-in diameter, Black.

NSN: 6645-00-NIB-0118—8-in diameter, Bronze.

NSN: 6645-00-NIB-0123—16-in diameter, Mahogany.

NSN: 6645-00-NIB-0127—Octagonal, 8.5-in diameter, Mahogany.

Coverage: A-List for the total Government requirement as specified by the General Services Administration.

NSN: 6645-00-NIB-0109—12-in diameter, Black, with Logo.

NSN: 6645-00-NIB-0113—12-in diameter, Bronze, with Logo.

NSN: 6645-00-NIB-0115—8-in diameter, Black, with Logo.

NSN: 6645-00-NIB-0119—8-in diameter, Bronze, with Logo.

NSN: 6645-00-NIB-0124—16-in diameter, Mahogany, with Logo.

NSN: 6645-00-NIB-0128—Octagonal, 8.5-in diameter, Mahogany, with Logo.

Coverage: B-List—for the broad Government requirement as specified by the General Services Administration.

NPA: The Chicago Lighthouse for People who are Blind or Visually Impaired, Chicago, IL.

Contracting Activity: General Services Administration, Office Supplies & Paper Products Acquisition Ctr, New York, NY.

Services

Service Type/Location: Custodial Services, U.S. Department of Agriculture, Animal and Plant Health Inspection Service (APHIS), Plant Protection Quarantine (PPQ), Professional Development Center (PDC), 67 Thomas Johnson Drive, Suite A2, Bldg 2, 69 Thomas Johnson Drive, Suite 100, Bldg 1, Frederick, MD.

NPA: NW Works, Inc., Winchester, VA.

Contracting Activity: U.S. Department of Agriculture, Animal & Plant Health Inspection Service, MRP, Minneapolis, MN.

Service Type/Location: Grounds Maintenance, U.S. Department of Agriculture, Agricultural Research Service, 3127 Ligon Street, Raleigh, NC.

NPA: OE Enterprises, Inc., Hillsborough, NC.

Contracting Activity: U.S. Department of Agriculture, Agriculture Research Service-SAA, Raleigh, Raleigh, NC.

This action does not affect current contracts awarded prior to the effective date of this addition or options that may be exercised under those contracts.

Kimberly M. Zeich,
Director, Program Operations.

[FR Doc. E7-19224 Filed 9-27-07; 8:45 am]

BILLING CODE 6353-01-P